COMMODITY FUTURES TRADING COMMISSION

Privacy Act of 1974; System of Records

AGENCY: Commodity Futures Trading Commission.

ACTION: Notice of a new system of records.

SUMMARY: In accordance with the requirements of the Privacy Act of 1974, as amended, 5 U.S.C. 552a, the Commodity Futures Trading Commission (CFTC or Commission) is establishing a new systems of records: CFTC-53, Mailing, Event, and General Contact Lists.

DATES: Comments must be received on or before May 28, 2019. This action will be effective without further notice on May 28, 2019, unless revised pursuant to comments received.

ADDRESSES: You may submit comments identified as pertaining to “Mailing, Event, and General Contact Lists” by any of the following methods:

• Agency website, via its Comments Online process: https://comments.cftc.gov. Follow the instructions for submitting comments through the website.

• Mail: Christopher Kirkpatrick, Secretary of the Commission, Commodity Futures Trading Commission, Three Lafayette Centre, 1155 21st Street NW, Washington, DC 20581.

• Hand Delivery/Courier: Same as Mail, above.

Please submit your comments using only one method.

All comments must be submitted in English, or if not, accompanied by an English translation. Comments will be posted as received to http://www.cftc.gov. You should submit only information that you wish to make available publicly.

The Commission reserves the right, but shall have no obligation, to review, pre-screen, filter, redact, refuse, or remove any or all of a submission from http://www.cftc.gov that it may deem to be inappropriate for publication, such as obscene language. All submissions that have been redacted or removed that contain comments on the merits of the notice will be retained in the comment file and will be considered as required under all applicable laws, and may be accessible under the FOIA.

FOR FURTHER INFORMATION CONTACT: Melissa Jurgens, Acting Chief Privacy Officer, 202-418-5516, privacy@cftc.gov, Office of the Executive Director, Commodity Futures Trading Commission, Three Lafayette Centre, 1155 21st Street NW, Washington, DC 20581.

SUPPLEMENTARY INFORMATION:

I. Mailing, Event, and General Contact Lists

The CFTC is establishing a new system of records that includes contact information compiled in lists related to a specific event, initiative, project, or outreach activity. These lists are used to facilitate mailings, registrations, and other communications to multiple addressees in furtherance of CFTC's mission under the Commodity Exchange Act.

II. The Privacy Act

Under the Privacy Act of 1974, 5 U.S.C. 552a, a “system of records” is defined as any group of records under the control of a Federal government agency from which information about individuals is retrieved by name or by some identifying number, symbol, or other identifying particular assigned to the individual. The Privacy Act establishes the means by which government agencies must collect, maintain, and use information about an individual in a government system of records.

Each government agency is required to publish a notice in the Federal Register in which the agency identifies and describes each system of records it maintains, the reasons why the agency uses the information therein, the routine uses for which the agency will disclose such information outside the agency, and how individuals may exercise their rights under the Privacy Act.

In accordance with 5 U.S.C. 552a(r), CFTC has provided a report of this system of records to the Office of Management and Budget (OMB) and to Congress.

III. Notice: Mailing, Event and Contact Lists, CFTC-53

SYSTEM NAME AND NUMBER

Mailing, Event, and General Contact Lists, CFTC-53.

SECURITY CLASSIFICATION:

Unclassified.

SYSTEM LOCATION:

This system is located at the Commodity Futures Trading Commission, Three Lafayette Centre, 1155 21st Street NW, Washington, DC 20581.

SYSTEM MANAGER(S):

Office of Public Affairs, Commodity Futures Trading Commission, Three Lafayette Centre, 1155 21st Street NW, Washington, DC 20581.

AUTHORITY FOR MAINTENANCE OF THE SYSTEM:

Section 748 of the Dodd-Frank Act (Pub. L. 111-203, Title VII, Section 748(g)(2)(B)) established the CFTC Customer Protection Fund for customer education initiatives designed to help customers protect themselves against fraud or other violations of the CEA or the rules or regulations thereunder. The Commission undertakes and maintains customer, and financial regulator education and awareness initiatives through various CFTC events and activities in accordance with Part 165.12 of the regulations under the Commodity Exchange Act, 17 CFR 165. The Commission also has authority to collect this information under 7 U.S.C. 22(a)(2)-(3) of the Commodity Exchange Act. See also 7 U.S.C. 26(g), and 44 U.S.C. 3101.

PURPOSE(S) OF THE SYSTEM:

The information in the system is being collected to enable CFTC to efficiently and effectively manage contact information to: (1) Assist CFTC in the distribution of documents and information to individuals who request such materials; (2) to maintain lists of media, Congressional, business, or other contacts for future communications; (3) create and maintain registration and event management tools for outreach, education, and training events; and, (4) correspond with individuals who attend CFTC events or request materials or notifications of CFTC events or initiatives or may be interested in learning about such events.

CATEGORIES OF INDIVIDUALS COVERED BY THE SYSTEM:

Individuals covered by this system include individuals who have requested to receive information, subscriptions, inquiries, informal guidance or materials from CFTC; who register or participate in CFTC-sponsored or CFTC-funded events; respond to surveys or feedback forms from CFTC, partnering agency, or by a third party contracted by CFTC; correspond with CFTC or are discussed in correspondence to or from CFTC regarding events, initiatives, and outreach activities; or who have previously interacted with the CFTC or other financial market regulators on other matters; or who the CFTC believes would be interested in learning of certain of our events or programs.

CATEGORIES OF RECORDS IN THE SYSTEM:

Information included in the system of records may contain: (1) Contact information (name, home/work address, business/institution affiliation and address, job titles, phone numbers (both work and mobile), email addresses; (2) information collected from or about attendees in response to surveys or as part of the event registration process; (3) special accommodation information (e.g., dietary restrictions, seating, access accommodations); (4) photographs; and (5) sign-in sheets or rosters compiled at meetings, conferences, and workshops held at or by the CFTC or event/outreach partner.

RECORD SOURCE CATEGORIES:

Information in this system is obtained directly from the individual, or their representative, who is the subject of these records or from third parties, such as survey providers or event hosting companies.

ROUTINE USES OF RECORDS MAINTAINED IN THE SYSTEM, INCLUDING CATEGORIES OF USERS AND THE PURPOSES OF SUCH USES:

The information in this system will be routinely used by CFTC staff members to contact individuals to respond to requests for information; facilitate events; educate customers, industry members, and financial regulators (both domestic and foreign); and, correspond with members of the public. These records and information in these records may be used:

(a) To disclose in any administrative proceeding before the Commission, in any injunctive action authorized under the Commodity Exchange Act, or in any other action or proceeding in which the Commission or its staff participates as a party or the Commission participates as amicus curiae;

(b) To disclose to Federal, State, local, territorial, Tribal, or foreign agencies for use in meeting their statutory or regulatory requirements;

(c) Information may be disclosed to any “registered entity,” as defined in section 1a of the Commodity Exchange Act, 7 U.S.C. 1, et seq. (“the Act”), to the extent disclosure is authorized and will assist the registered entity in carrying out its responsibilities under the Act. Information may also be disclosed to any registered futures association registered under section 17 of the Act to assist it in carrying out its self-regulatory responsibilities under the Act, and to any national securities exchange or national securities association registered with the Securities and Exchange Commission to assist those organizations in carrying out their self-regulatory responsibilities under the Securities Exchange Act of 1934, 15 U.S.C. 78a, et seq.;

(d) To disclose to contractors, grantees, volunteers, experts, students, and others performing or working on a contract, service, grant, cooperative agreement, or job for the Federal government when necessary to accomplish an agency function;

(e) To disclose to Congress upon its request, acting within the scope of its jurisdiction, pursuant to the Commodity Exchange Act, 7 U.S.C. 1 et seq., and the rules and regulations promulgated thereunder;

(f) To disclose to appropriate agencies, entities, and persons when (1) the Commission suspects or has confirmed that there has been a breach of the system of records; (2) the Commission has determined that as a result of the suspected or confirmed breach there is a risk of harm to individuals, the Commission (including its information systems, programs, and operations), the Federal Government, or national security; and (3) the disclosure made to such agencies, entities, and persons is reasonably necessary to assist in connection with the Commission's efforts to respond to the suspected or confirmed breach or to prevent, minimize, or remedy such harm; or

(g) To disclose to another Federal agency or Federal entity, when the Commission determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

POLICIES AND PRACTICES FOR STORAGE OF RECORDS:

Records in this system may be stored electronically or on paper. Electronic records are stored on the Commission's secure network and secure back-up media.

POLICIES AND PRACTICES FOR RETRIEVAL OF RECORDS:

Certain information covered by this SORN may be retrieved by name, address, business affiliation, email address, event date, event type, event location or an identifying event or file number.

POLICIES AND PRACTICES FOR RETENTION AND DISPOSAL OF RECORDS:

The records will be maintained in accordance with records disposition schedules approved by the National Archives and Records Administration. The schedules are available at http://www.cftc.gov.

ADMINISTRATIVE, TECHNICAL, AND PHYSICAL SAFEGUARDS:

Records are protected from unauthorized access and improper use through administrative, technical, and physical security measures. Administrative safeguards include written guidelines on handling personal information including agency-wide procedures for safeguarding personally identifiable information. In addition, all CFTC staff are required to take annual privacy and security training. Technical security measures within CFTC include restrictions on computer access to authorized individuals who have a legitimate need to know the information; required use of strong passwords that are frequently changed; multi-factor authentication for remote access and access to many CFTC network components; use of encryption for certain data types and transfers; firewalls and intrusion detection applications; and regular review of security procedures and best practices to enhance security. Physical safeguards include restrictions on building access to authorized individuals, 24-hour security guard service, and maintenance of records in lockable offices and filing cabinets.

RECORD ACCESS PROCEDURES:

Individuals seeking to determine whether this system of records contains information about themselves or seeking access to records about themselves in this system of records should address written inquiries to the Office of General Counsel, Commodity Futures Trading Commission, Three Lafayette Centre, 1155 21st Street NW, Washington, DC 20581. See 17 CFR 146.3 for full details on what to include in a Privacy Act access request.

CONTESTING RECORD PROCEDURES:

Individuals contesting the content of records about themselves contained in this system of records should address written inquiries to the Office of General Counsel, Commodity Futures Trading Commission, Three Lafayette Centre, 1155 21st Street NW, Washington, DC 20581. See 17 CFR 146.8 for full details on what to include in a Privacy Act amendment request.

NOTIFICATION PROCEDURES:

Individuals seeking notification of any records about themselves contained in this system of records should address written inquiries to the Office of General Counsel, Commodity Futures Trading Commission, Three Lafayette Centre, 1155 21st Street NW, Washington, DC 20581. See 17 CFR 146.3 for full details on what to include in a Privacy Act notification request.

EXEMPTIONS PROMULGATED FOR THE SYSTEM:

None.

HISTORY:

None.

Issued in Washington, DC, on April 22, 2019, by the Commission.
Robert Sidman,
Deputy Secretary of the Commission.

[FR Doc. 2019-08395 Filed 4-25-19; 8:45 am]

BILLING CODE 6351-01-P